INTERNATIONAL TRADE COMMISSION

[Investigation No. 337-TA-709]

In the Matter of Certain Integrated Circuits, Chipsets, and Products Containing Same Including Televisions, Media Players, and Cameras; Notice of Commission Determination Not To Review a Final Determination of No Violation of Section 337; Termination of the Investigation

AGENCY: U.S. International Trade Commission.

ACTION: Notice.

SUMMARY: Notice is hereby given that the U.S. International Trade Commission has determined not to review the final initial determination (“ID”) issued by the presiding administrative law judge (“ALJ”) on April 4, 2011, finding no violation of section 337 in the above-captioned investigation.

FOR FURTHER INFORMATION CONTACT: Jia Chen, Office of the General Counsel, U.S. International Trade Commission, 500 E Street, SW., Washington, DC 20436, telephone (202) 708-4737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 29, 2010, based on a complaint filed by Freescale Semiconductor, Inc. of Austin Texas. 75 FR 16837 (Mar. 29, 2010). The complaint alleged violations of Section 337 of the Tariff Act of 1930 (19 U.S.C. 1337) in the importation into the United States, the sale for importation, and the sale within the United States after importation of certain integrated circuits, chipsets, and products containing same including televisions, media players, and cameras by reason of infringement of certain claims of U.S. Patent Nos. 5,467,455 (“the `455 patent”), 5,715,014, and 7,199,306. The complaint, as amended, named the following respondents: Panasonic Corporation of Osaka, Japan; Panasonic Corporation of North America of Secaucus, New Jersey; Funai Electric Co., Ltd. of Osaka, Japan, Funai Corporation, Inc. of Rutherford, New Jersey Funai (collectively “Funai”); JVC Americas Corp. of Wayne, New Jersey; Victor Company of Japan Limited of Yokohama, Japan; Best Buy Purchasing, LLC, Best Buy.Com, LLC, Best Buy Stores, L.P., all of Richfield, Minnesota (collectively “Best Buy”); B&H Foto & Electronics Corp. of New York, New York; Huppin's Hi-Fi Photo & Video, Inc. of Spokane, Washington; Buy.com Inc. of Aliso Viejo, California; QVC, Inc. of West Chester, Pennsylvania; Crutchfield Corporation of Charlottesville, VA. Only Funai, Best-Buy, and Wal-Mart remain as respondents, and only the `455 patent is currently at issue.

On April 4, 2011, the presiding ALJ issued a final ID finding no violation of section 337 by respondents Funai, Best-Buy and Wal-Mart. The ALJ concluded that none of the accused products infringe the `455 patent because the third-party documents relied on by complainant to show infringement were entitled to no evidentiary weight. The ALJ further concluded that otherwise all of the elements for proving a violation were shown and that respondents have not established that the `455 patent is invalid under 35 U.S.C. 102 for anticipation, under 35 U.S.C. 103 for obviousness, or under 35 U.S.C. 112 for failure to comply with the written description requirement. On April 28, 2011, complainant filed a petition for review of the ID. On the same day, respondents filed a contingent petition seeking review only if the Commission otherwise determined to review the ID.

Having examined the record of this investigation, including the ALJ's final ID and the submissions of the parties, the Commission has determined not to review the ID.

The authority for the Commission's determination is contained in section 337 of the Tariff Act of 1930, as amended (19 U.S.C. 1337), and in sections 210.42-46 and 210.50 of the Commission's Rules of Practice and Procedure (19 CFR 210.42-46 and 210.50).

Issued: June 6, 2011.
By order of the Commission.
James R. Holbein,
Secretary to the Commission.

[FR Doc. 2011-14433 Filed 6-9-11; 8:45 am]

BILLING CODE 7020-02-P